DEPARTMENT OF COMMERCE

[RTID 0648-XB398]

Review and Comment of National Oceanic and Atmospheric Administration Tribal Consultation Policy and Procedures: Extension of Public Comment Period

AGENCY: National Oceanic and Atmospheric Administration (NOAA), Commerce.

ACTION: Notice; extension of public comment period.

SUMMARY: NOAA is extending the public comment period associated with its request for information (RFI) on its policies and guidance documents for government-to-government consultation with federally recognized Indian Tribes. The RFI was published in the Federal Register on Wednesday, November 24, 2021. The public comment period on the RFI was originally scheduled to end January 24, 2022. NOAA is extending that comment period by 30 days and will now consider comments received through February 24, 2022.

DATES: The deadline for receipt of comments on the RFI published on November 24, 2021 (83 FR 26009), is extended by 30 days to February 24, 2022.

ADDRESSES: Responses should be submitted via email to heather.sagar@noaa.gov. Include “NOAA Tribal Consultation Policy” in the subject line of the message.

Instructions: Response to this request for information (RFI) is voluntary. Email attachments will be accepted in plain text, Microsoft Word, or Adobe PDF formats only. Each individual or institution is requested to submit only one response. NOAA may post responses to this RFI, without change, on a Federal website. It is, therefore, requested that no business proprietary information, copyrighted information, or personally identifiable information be submitted in response to this RFI. Please note that the U.S. Government will not pay for response preparation, or for the use of any information contained in the response.

FOR FURTHER INFORMATION CONTACT: Heather Sagar, heather.sagar@noaa.gov, (301) 427-8019.

SUPPLEMENTARY INFORMATION: On Wednesday, November 24, 2021, NOAA published an RFI seeking comments from Tribal Nations, Tribal officials, members of the public, and other interested parties to help identify appropriate updates or revisions to the following NOAA policies and guidance documents, which facilitate NOAA's implementation of E.O. 13175: (1) Tribal Consultation Handbook titled NOAA Procedures for Government-to-Government Consultation With Federally Recognized Indian Tribes and Alaska Native Corporations (2013); (2) NOAA Administrative Order 218-8 titled Policy on Government-to-Government Consultation with Federally Recognized Indian Tribes and Alaska Native Corporations (Reaffirmed in 2018); and (3) a traditional ecological knowledge (TEK) guidance currently titled NOAA Fisheries and National Ocean Service Guidance and Best Practices for Engaging and Incorporating Traditional Ecological Knowledge in Decision-Making (2019). NOAA proposes revisions to its Tribal Consultation Handbook to reflect lessons learned and improved practices to better facilitate meaningful and effective tribal consultations. NOAA also proposes minor revisions to Administrative Order 218-8 to reflect necessary updates since its issuance in 2014. We are also seeking comments on the existing TEK Guidance, which has not been previously made available for public comment. Though the TEK Guidance is only currently implemented by NOAA Fisheries and the National Ocean Service, NOAA is now extending the applicability of the TEK Guidance to all NOAA Offices. NOAA is interested in whether updates or revisions are appropriate for this TEK Guidance, including terminology. Updates or revisions to NOAA's Tribal Consultation Handbook, Administrative Order, and TEK Guidance will be informed by the input we receive from federally recognized Indian Tribes, the public, and other interested parties.

NOAA has decided to extend the public comment period on the RFI by 30 days to Thursday, February 24, 2022, to allow opportunity for the public to continue to provide information on these important documents. All three documents can be viewed at this NOAA website: https://www.noaa.gov/legislative-and-intergovernmental-affairs/noaa-tribal-resources-updates.

Dated: January 14, 2022.
Richard W. Spinrad,
Under Secretary of Commerce for Oceans and Atmosphere and NOAA Administrator.

[FR Doc. 2022-01118 Filed 1-20-22; 8:45 am]

BILLING CODE 3510-12-P